DEPARTMENT OF DEFENSE

Department of the Army

[Docket ID USA-2022-HQ-0011]

Proposed Collection; Comment Request

AGENCY: U.S. Army Corps of Engineers, Department of Defense (DoD).

ACTION: 60-Day information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, 441 G Street NW, Washington, DC 20314-1000, ATTN: Ms. Kathryn Nevins, or call 703-428-6440.

SUPPLEMENTARY INFORMATION:

Title; Associated Form; and OMB Number: Interviews Assessing Community Awareness of Dam and Levee Risks and Benefits; OMB Control Number 0710-DAMS.

Needs and Uses: The U.S. Army Corps of Engineers (USACE) is requesting approval to collect information via interviews to inform strategic communications planning for the USACE Dam and Levee Safety Programs. The information collection will target a diverse sample of communities affected by dams and or levees. Information collected in interviews will inform USACE's understanding of communities' levels of awareness, knowledge, means of knowledge acquisition, and behavioral responses related to the risks and benefits of dams and/or levees. Engagement with community stakeholders and representatives of local populations will provide USACE with information on how best to communicate the benefits and risks of dams and levees with the goal of enhancing flood risk management. Insights from this information collection will be used to develop guidance and toolkits for the Dam and Levee Safety Programs.

Affected Public: Individuals or households; Businesses or other for-profit; Not-for-profit Institutions; State, Local or Tribal Government.

Annual Burden Hours: 75.

Number of Respondents: 60.

Responses per Respondent: 1.

Annual Responses: 60.

Average Burden per Response: 1.25 hours.

Frequency: One-time.

Dated: April 26, 2022.
Aaron T. Siegel,
Alternate OSD Federal Register Liaison Officer, Department of Defense.

[FR Doc. 2022-09262 Filed 4-28-22; 8:45 am]

BILLING CODE 5001-06-P